DEPARTMENT OF COMMERCE

International Trade Administration

[A-549-835, A-570-069, C-570-070]

Rubber Bands From the People's Republic of China and Thailand: Final Results of Sunset Reviews and Revocation of Antidumping Duty and Countervailing Duty Orders

AGENCY: Enforcement and Compliance, International Trade Administration, Department of Commerce.

SUMMARY: On January 2, 2024, the U.S. Department of Commerce (Commerce) initiated the first sunset reviews of the antidumping duty (AD) and countervailing duty (CVD) orders on rubber bands from the People's Republic of China (China) and the AD order on rubber bands from Thailand. Because no domestic interested party filed a timely notice of intent to participate in these sunset reviews, Commerce is revoking the AD and CVD orders on rubber bands from the China and the AD order on rubber bands from Thailand.

DATES: Applicable February 19, 2024 (China AD/CVD) and April 26, 2024 (Thailand).

FOR FURTHER INFORMATION CONTACT: Brendan Quinn, AD/CVD Operations Office III, Enforcement and Compliance, International Trade Administration, U.S. Department of Commerce, 1401 Constitution Avenue NW, Washington, DC 20230; telephone: (202) 482-5848.

SUPPLEMENTARY INFORMATION:

Background

On February 19, 2019, Commerce published AD and CVD orders on rubber bands from China.¹ On April 26, 2019, Commerce published an AD order on rubber bands from Thailand.² On January 2, 2024, Commerce initiated the current sunset reviews pursuant to section 751(c) of the Tariff Act of 1930, as amended (the Act) and 19 CFR 351.218(c).³

¹ See Rubber Bands from the People's Republic of China: Antidumping Duty and Countervailing Duty Orders, 84 FR 4774 (February 19, 2019) (China AD and CVD Orders).

² See Rubber Bands from Thailand: Antidumping Duty Order, 84 FR 17779 (April 26, 2019) (Thailand AD Order).

³ See Initiation of Five-Year (Sunset) Reviews, 89 FR 66 (January 2, 2024) (Initiation Notice).

We did not receive a timely notice to participate in these sunset reviews from any domestic interested party within fifteen days of the publication of the Initiation Notice in the Federal Register, in accordance with 19 CFR 351.218(d)(1)(i). As a result, consistent with 19 CFR 351.218(d)(1)(iii)(A)(1), Commerce has determined that no domestic interested party intends to participate in these sunset reviews. On January 23, 2024, in accordance with 19 CFR 351.218(d)(1)(iii)(B)(2), Commerce notified the U.S. International Trade Commission (ITC) in writing that we intended to revoke the AD and CVD orders (collectively, Orders) on rubber bands from China and the AD order on rubber bands from Thailand.⁴

⁴ See Commerce's Letter, “Sunset Reviews Initiated on January 2, 2024,” dated January 23, 2024.

Scope of the Orders

The scope of the Orders covers bands made of vulcanized rubber, with a flat length, as actually measured end-to-end by the band lying flat, no less than ½ inch and no greater than 10 inches; with a width, which measures the dimension perpendicular to the length, actually of at least 3/64 inch and no greater than 2 inches; and a wall thickness actually from 0.020 inch to 0.125 inch. Vulcanized rubber has been chemically processed into a more durable material by the addition of sulfur or other equivalent curatives or accelerators. Subject products are included regardless of color or inclusion of printed material on the rubber band's surface, including but not limited to, rubber bands with printing on them, such as a product name, advertising, or slogan, and printed material (e.g., a tag) fastened to the rubber band by an adhesive or another temporary type of connection. The scope includes vulcanized rubber bands which are contained or otherwise exist in various forms and packages, such as, without limitation, vulcanized rubber bands included within a desk accessory set or other type of set or package, and vulcanized rubber band balls. The scope excludes products that consist of an elastomer loop and durable tag all-in-one, and bands that are being used at the time of import to fasten an imported product.

Excluded from the scope of the Orders are vulcanized rubber bands of various sizes with arrow shaped rubber protrusions from the outer diameter that exceeds at the anchor point a wall thickness of 0.125 inches and where the protrusion is used to loop around, secure and lock in place.

Excluded from the scope of the Orders are yarn/fabric-covered vulcanized rubber hair bands, regardless of size.

Merchandise covered by the Orders is currently classified in the Harmonized Tariff Schedule of the United States (HTSUS) under subheading 4016.99.3510. Merchandise covered by the scope may also enter under HTSUS subheading 4016.99.6050. While the HTSUS subheadings are provided for convenience and customs purposes, the written description of the scope of the Orders is dispositive.

Revocation

Pursuant to section 751(c)(3)(A) of the Act and 19 CFR 351.218(d)(1)(iii)(B)(3), if no domestic interested parties respond to a notice of initiation, Commerce shall, within 90 days after the initiation of the review, revoke the order. Because no domestic interested party filed a notice of intent to participate in these sunset reviews, we are revoking the AD and CVD orders on rubber bands from China and the AD order on rubber bands from Thailand.

Effective Date of Revocation

Pursuant to sections 751(c)(3)(A) and 751(c)(6)(A)(iii) of the Act, and 19 CFR 351.222(i)(2)(i), where Commerce revokes an order, the revocation will be effective on or after the fifth anniversary of the date of publication in the Federal Register of the order. Therefore, Commerce intends instruct U.S. Customs and Border Protection to terminate the suspension of liquidation of merchandise entered, or withdrawn from warehouse, on or after: February 19, 2024, for merchandise subject to the China AD and CVD Orders, and April 26, 2024, for merchandise subject to the Thailand AD Order.

Entries of subject merchandise prior to the effective date of revocation will continue to be subject to suspension of liquidation and antidumping duty and countervailing duty deposit requirements. Commerce will complete any pending reviews of these orders and will conduct administrative reviews of subject merchandise entered prior to the effective date of revocation in response to appropriately filed requests for review.

Notification to Interested Parties

These five-year (sunset) reviews, the revocation of the Orders, and this notice are issued and published in accordance with sections 751(c) and 777(i)(1) of the Act and 19 CFR 351.218(f)(4) and 351.222(i)(1)(i).

Dated: March 14, 2024.
Ryan Majerus,
Deputy Assistant Secretary for Policy and Negotiations, performing the non-exclusive functions and duties of the Assistant Secretary for Enforcement and Compliance.

[FR Doc. 2024-06025 Filed 3-20-24; 8:45 am]

BILLING CODE 3510-DS-P